DEPARTMENT OF ENERGY

Federal Energy Regulatory Commission

Combined Notice of Filings #2

Take notice that the Commission received the following exempt wholesale generator filings:

Docket Numbers: EG16-36-000.

Applicants: Kingbird Solar A, LLC.

Description: Notice of Self-Certification of Exempt Wholesale Generator Status of Kingbird Solar A, LLC.

Filed Date: 1/11/16.

Accession Number: 20160111-5267.

Comments Due: 5 p.m. ET 2/1/16.

Docket Numbers: EG16-37-000.

Applicants: Kingbird Solar B, LLC.

Description: Notice of Self-Certification of Exempt Wholesale Generator Status of Kingbird Solar B, LLC.

Filed Date: 1/11/16.

Accession Number: 20160111-5271.

Comments Due: 5 p.m. ET 2/1/16.

Take notice that the Commission received the following electric rate filings:

Docket Numbers: ER16-38-001.

Applicants: Kingbird Solar A, LLC.

Description: Compliance filing: Application for Initial Market-Based Rate Tariff and Granting Certain Waivers to be effective 1/12/2016.

Filed Date: 1/11/16.

Accession Number: 20160111-5265.

Comments Due: 5 p.m. ET 2/1/16.

Docket Numbers: ER16-705-001.

Applicants: RE Garland LLC.

Description: Tariff Amendment: Amendment to Application and Initial Tariff Filing to be effective 2/12/2016.

Filed Date: 1/11/16.

Accession Number: 20160111-5311.

Comments Due: 5 p.m. ET 2/1/16.

Docket Numbers: ER16-706-001.

Applicants: RE Garland A LLC.

Description: Tariff Amendment: Amendment to Application and Initial Tariff Filing to be effective 2/12/2016.

Filed Date: 1/11/16.

Accession Number: 20160111-5312.

Comments Due: 5 p.m. ET 2/1/16.

Docket Numbers: ER16-708-000.

Applicants: Calpine Energy Services, L.P.

Description: Request for Limited Waiver and Shortened Comment Period of Calpine Energy Services, L.P.

Filed Date: 1/8/16.

Accession Number: 20160108-5278.

Comments Due: 5 p.m. ET 1/19/16.

Docket Numbers: ER16-710-000.

Applicants: Arizona Public Service Company.

Description: Section 205(d) Rate Filing: Service Agreement No. 219—Amendment 2 to be effective 1/1/2016.

Filed Date: 1/11/16.

Accession Number: 20160111-5297.

Comments Due: 5 p.m. ET 2/1/16.

Docket Numbers: ER16-711-000.

Applicants: Pio Pico Energy Center, LLC.

Description: Baseline eTariff Filing: Application for MBR to be effective 3/1/2016.

Filed Date: 1/11/16.

Accession Number: 20160111-5304.

Comments Due: 5 p.m. ET 2/1/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 11, 2016.
Nathaniel J. Davis, Sr.,
Deputy Secretary.

[FR Doc. 2016-00702 Filed 1-14-16; 8:45 am]

BILLING CODE 6717-01-P